DEPARTMENT OF JUSTICE

Office of Justice Programs

[OJP (OJJDP)-1364]

Office of Juvenile Justice and Delinquency Prevention: Meeting of the Coordinating Council on Juvenile Justice and Delinquency Prevention

AGENCY: Office of Justice Programs, Office of Juvenile Justice and Delinquency Prevention, Justice.

ACTION: Notice of meeting.

SUMMARY: The Office of Juvenile Justice and Delinquency Prevention is announcing the meeting of the Coordinating Council on Juvenile Justice and Delinquency Prevention. The purpose of this meeting is for the Council to discuss its goals and priorities for Fiscal Year 2003, review the Annual Report to Congress, and be briefed on the impact of marijuana on youth.

This meeting will be open to the public. Members of the public who wish to attend the meeting should notify the Juvenile Justice Resource Center, at 301-519-6473 (this is not a toll-free number) by 5 p.m., ET, on Friday, November 1, 2002. For security purposes, photo identification will be required.

DATES: Friday, November 8, 2002, 10 a.m. to 1 p.m. (ET).

ADDRESSES: The meeting will take place at the U.S. Department of Justice, Office of Justice Programs, Main Conference Room, 3rd Floor, 810 Seventh Street NW., Washington, DC 20531.

Oral and Written Comments

Anyone who wishes to submit oral or written comments should contact Bob Hubbard, Designated Federal Official for the Coordinating Council on Juvenile Justice and Delinquency Prevention, OJJDP, 810 Seventh Street, NW., Washington DC 20531; Telephone: 202-616-3567 (This is not a toll-free number); Fax: 202-307-2093; E-mail: hubbard@ojp.usdoj.gov. Requests for the opportunity to present oral comments at the meeting must be made in writing to Bob Hubbard and be received no later than 12 noon, Eastern Time, on Friday, November 1, 2002.

Public statements presented at the meeting should not be repetitive of previously submitted oral or written statements. In general, each individual or group making an oral presentation will be limited to a total of 10 minutes.

Written comments (at least 20 copies) may be mailed to the Office of Juvenile Justice and Delinquency Prevention, 810 7th Street NW., Washington, DC 20531, by October 25, 2002.

FOR FURTHER INFORMATION CONTACT: Any member of the public wishing further information concerning the meeting should contact Daryel Dunston, Program Manager, Juvenile Justice Resource Center, at 301-519-6473. (This is not a toll-free number.)

SUPPLEMENTARY INFORMATION: The Coordinating Council on Juvenile Justice and Delinquency Prevention, established pursuant to section 3(2)A of the Federal Advisory Committee Act (5 U.S.C. App. 2), will meet to carry out its advisory functions under Section 206 of the Juvenile Justice and Delinquency Prevention Act of 1974, as amended (42 U.S.C. Sec. 5601 et seq.). Documents such as meeting announcements, agendas, minutes, and interim and final reports will be available on the Council's Web page at ojjdp.ncjrs.org/council/index.html.

Dated: October 16, 2002.
J. Robert Flores,
Administrator, Office of Juvenile Justice and Delinquency Prevention.

[FR Doc. 02-26881 Filed 10-22-02; 8:45 am]

BILLING CODE 4410-18-P